DEPARTMENT OF AGRICULTURE

Natural Resources Conservation Service

[Docket No. NRCS-2017-0001]

Notice of Proposed Changes to the National Handbook of Conservation Practices for the Natural Resources Conservation Service

AGENCY: Natural Resources Conservation Service (NRCS), U.S. Department of Agriculture (USDA).

ACTION: Notice of availability of proposed changes to the National Handbook of Conservation Practices for public review and comment.

SUMMARY: Notice is hereby given of the intention of NRCS to issue a series of revised conservation practice standards in the National Handbook of Conservation Practices. These standards include: Anaerobic Digester (Code 366), Contour Farming (Code 330), Crosswind Ridges (Code 588), Dam (Code 402), Mulching (Code 484), Pond Sealing or Lining—Geomembrane or Geosynthetic Clay Liner (Code 521), Stream Crossing (Code 578), Strip-Cropping (Code 585), Structure for Water Control (Code 587), Water and Sediment Control Basin (Code 638), Waste Recycling (Code 633), Waste Treatment Lagoon (Code 359). NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective June 23, 2017.

Comment Date: Submit comments on or before July 24, 2017. Final versions of these new or revised conservation practice standards will be adopted after the close of the 30-day period and after consideration of all comments.

ADDRESSES: Comments should be submitted, identified by Docket Number NRCS-2017-0001, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, telephone number, email, or other personal identifying information (PII), your comments, including PII, may be available to the public. You may ask in your comment that your PII be withheld from public view, but this cannot be guaranteed.

FOR FURTHER INFORMATION CONTACT: Bill Reck, National Environmental Engineer, Conservation Engineering Division, U.S. Department of Agriculture, Natural Resources Conservation Service, 1400 Independence Avenue Southwest, South Building, Room 6136, Washington, DC 20250.

Electronic copies of the proposed revised standards are available through http://www.regulations.gov by accessing Docket No. NRCS-2017-0001. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at http://www.nrcs.usda.gov/wps/portal/nrcs/detailfull/national/technical/cp/ncps/?cid=nrcs143_026849. To aid in this comparison, following are highlights of some of the proposed revisions to each standard:

Anaerobic Digester (Code 366)—Revised language as needed to improve readability and clarify intent in criteria. “Conditions Where Practice Applies” section was updated and two items were removed. Provided additional information on the use of open and closed flares. Updated the safety section.

Contour Farming (Code 330)—The contour farming definition was changed to read “Aligning ridges, furrows, and roughness formed by tillage, planting and other operations at a grade near the contour to alter the velocity or the direction of water flow.” Added the resource concern linked to each purpose. Under “general criteria” made changes to the wording on minimum and maximum row grades and lowered the allowable deviation of row grade within 50 feet of a stable outlet. Changed requirements under “plans and specifications.”

Crosswind Ridges (Code 588)—The crosswind ridges standard was reviewed and updated to reflect current agency policy and science. Each “purpose” has the resource concern linked. Minor word edits were made to clarify criteria. In “references,” updated the Wind Erosion Prediction System reference.

Dam (Code 402)—The agency updated criteria and added references. Other changes improved the clarity of language used in the standard.

Mulching (Code 484)—The mulching standard was reviewed and updated to reflect current agency policy and science. The “definition” was changed with the reference to “materials produced offsite” removed. Each “purpose” has the resource concern linked. Under “general criteria applicable to all purposes,” a paragraph was added to remove synthetic mulches and to not incorporate them into the soil. The percentage of ground cover to reduce potential evaporation was increased and two new references were added.

Pond Sealing or Lining—Geomembrane or Geosynthetic Clay Liner (Code 521)—Title changed from “Pond Sealing or Lining—Flexible Membrane” to “Pond Sealing or Lining—Geomembrane or Geosynthetic Clay Liner” to better reflect the current industrial standard nomenclature. Practice Standard Code changed from 521A to 521. Units changed from “Number” to “Square Feet” to better represents the quantity of the practice installed. HDPE liner thickness changed from 40 mil to 60 mil.

Stream Crossing (Code 578)—The purpose of this standard has been modified to only address resource concerns. Criteria listed as considerations was moved to the appropriate criteria section. Language has been simplified to better coordinate CPS 578 with other conservation practices, policy, and procedures by cross-referencing, instead of reiteration.

Strip-Cropping (Code 585)—The strip-cropping standard was reviewed and updated to reflect current agency policy and science. Each “purpose” has the resource concern linked. Minor word edits were made to clarify criteria. Under “general criteria,” added “Design the row grades with positive row drainage of not less than 0.2 percent on slopes where ponding is a concern. This would include sites with soils with slow to very slow infiltration rates (soil hydrologic groups C or D), or where crops are sensitive to ponded water.” In “references,” updated the Wind Erosion Prediction System, and added a reference for the Water Erosion Prediction Project.

Structure for Water Control (Code 587)—The agency updated criteria and added references. Other changes improved the clarity of language used in the standard.

Water and Sediment Control Basin (Code 638)—Revised language as needed to improve readability and clarify intent of criteria. Topsoil criteria and the auxiliary spillway portion of the outlet criteria were moved to the considerations section since these are not always required. Added criteria for embankment foundation preparation.

Waste Recycling (Code 633)—Language changes were made in the definition, conditions where practice applies and criteria to clarify the purpose of the standard and how it is to be used.

Waste Treatment Lagoon (Code 359)—The document has been revised extensively. Those revisions include modifications to align the structural design requirements to align with changes to the Waste Storage Structure Standard. These changes include changes in accepted concrete and timber design criteria, modification of language for storage requirements to improve clarity, modify language to conform to the Plain Language Act, improvements to the safety criteria, changing the requirement of a staff gauge from optional to required, and improvements to the “Plans and Specifications,” and “Operation and Maintenance” sections of the standard. Other changes have been made to improve the clarity of the language used in the standard.

Signed this 24th day of May, 2017, in Washington, DC.
Leonard Jordan,
Acting Chief, Natural Resources Conservation Service.

[FR Doc. 2017-13179 Filed 6-22-17; 8:45 am]

BILLING CODE 3410-16-P